DEPARTMENT OF DEFENSE

Office of the Secretary

[Docket ID: DoD-2008-OS-0131]

Privacy Act of 1974; System of Records

AGENCY: Office of the Secretary, DoD.

ACTION: Notice to alter a system of records.

SUMMARY: The Office of the Secretary of Defense is proposing to alter a system of records notice in its existing inventory of record systems subject to the Privacy Act of 1974, (5 U.S.C. 552a), as amended.

DATES: This proposed action will be effective without further notice on December 12, 2008, unless comments are received which result in a contrary determination.

ADDRESSES: Send comments to the Privacy Act Officer, Office of Freedom of Information, Washington Headquarters Services, 1155 Defense Pentagon, Washington, DC 20301-1155.

FOR FURTHER INFORMATION CONTACT: Mrs. Cindy Allard at (703) 588-2386.

SUPPLEMENTARY INFORMATION: The Office of the Secretary of Defense systems of records notices subject to the Privacy Act of 1974, (5 U.S.C. 552a), as amended, have been published in the Federal Register and are available from the address above.

The proposed systems reports, as required by 5 U.S.C. 552a(r) of the Privacy Act of 1974, as amended, were submitted on October 21, 2008, to the House Committee on Government Oversight and Reform, the Senate Committee on Homeland Security and Governmental Affairs, and the Office of Management and Budget (OMB) pursuant to paragraph 4c of Appendix I to OMB Circular No. A-130, “Federal Agency Responsibilities for Maintaining Records About Individuals,” dated February 8, 1996 (February 20, 1996, 61 FR 6427).

Dated: November 3, 2008.
Morgan E. Frazier,
Alternate OSD Federal Register Liaison Officer, Department of Defense.

DTIC 01

System name:

Defense User Registration System (April 25, 2005, 70 FR 21181).

Changes:

* * * * *

System name:

Delete entry and replace with “Defense User Registration System (DURS) Records.”

* * * * *

Categories of individuals covered by the system:

Delete entry and replace with “DoD and other U.S. Federal Government agency military and civilian personnel and their contractors; researchers of colleges or universities funded by DoD or other U.S. Federal Government agencies; students and employees of specifically qualifying educational institutions, Groups, and Programs, e.g., Historically Black Colleges, Universities, and Minority Institutions (HBCU/MI), Hispanic Serving Institutions (HSIs), and University Research Support (URS); awardees under the Multidisciplinary University Research Initiative (MURI); awardees and researchers eligible for awards under the Defense Experimental Program to Stimulate Competitive Research (DEPSCOR); designated officials and employees of foreign embassies; and members of Small Business Innovative Research (SBIR) Organizations/Groups.”

Categories of records in the system:

Delete entry and replace with “Information relating to registration requests by individuals seeking access to DTIC-owned or controlled computers, databases, products, and/or services. The records contain the individual's name; organization/company mailing address/physical location; registrants' USERID; password/reset questions; organization/company telephone number(s); access eligibility; dissemination/distribution group codes; and personal and facility security clearance level(s). The records also contain the government approving official's name, office phone number, and e-mail address; dates of registration's activation, and the projected date of expiration. Where applicable, the records contain contract number(s), contract expiration date(s), and the Military Critical Technical Data Agreement (MCTDA) Certification Number. Only DoD employees requesting registration are required to submit their SSNs via encryption to DMDC (Defense Manpower Data Center) to confirm their status as DoD employees. The SSN is not viewed, stored, nor accessible by DTIC.”

* * * * *

Authority:

Delete entry and replace with “5 U.S.C. 301, Departmental Regulation; E.O. 12958, Classified National Security Information; DOD 5200.1-R, Information Security Program; Defense Information Systems Agency Instruction 240-110-8, Information Security Program; and E.O. 9397 (SSN).”

Purpose(s):

Delete entry and replace with “The purpose of this system of records is to collect, validate eligibility, and maintain an official registry file that identifies individuals and organizations who apply for, and are granted, access privileges to DTIC products, services and electronic information systems.”

* * * * *

Retrievability:

Delete entry and replace with “Individual name, e-mail address, and security clearance level.”

Safeguards:

Delete entry and replace with “Records are maintained in secure, limited access, or monitored areas. Database is monitored and access is password protected. Physical entry by unauthorized persons is restricted through the use of locks, guards, passwords, or other administrative procedures. Archived data is stored on discs, or magnetic tapes, which are kept in a locked or controlled access area. Access to personal information is limited to those individuals who require the records to perform their official assigned duties.”

Retention and disposal:

Delete entry and replace with “Electronic records are to be deleted when/if DTIC determines they are no longer needed for administrative, audit, legal or operational purposes. Approved disposal methods for electronic records and media include overwriting, degaussing, erasing, disintegration, pulverization, burning, melting, incineration, shredding or sanding.”

* * * * *

DTIC 01

System name:

Defense User Registration System (DURS) Records.

System location:

Defense Technical Information Center (DTIC), Directorate of User Services, Marketing and Registration Division, ATTN: DTIC-BC (Registration), 8725 John J. Kingman Road, Suite 0944, Fort Belvoir, VA 22060-6218.

Categories of individuals covered by the system:

DoD and other U.S. Federal Government agency military and civilian personnel and their contractors; researchers of colleges or universities funded by DoD or other U.S. Federal Government agencies; students and employees of specifically qualifying educational institutions, Groups, and Programs, e.g., Historically Black Colleges, Universities, and Minority Institutions (HBCU/MI), Hispanic Serving Institutions (HSIs), and University Research Support (URS); awardees under the Multidisciplinary University Research Initiative (MURI); awardees and researchers eligible for awards under the Defense Experimental Program to Stimulate Competitive Research (DEPSCOR); designated officials and employees of foreign embassies; and members of Small Business Innovative Research (SBIR) Organizations/Groups.

Categories of records in the system:

Information relating to registration requests by individuals seeking access to DTIC-owned or controlled computers, databases, products, and/or services. The records contain the individual's name; organization/company mailing address/physical location; registrants' USERID; password/reset questions; organization/company telephone number(s); access eligibility; dissemination/distribution group codes; and personal and facility security clearance level(s). The records also contain the government approving official's name, office phone number, and e-mail address; dates of registration's activation, and the projected date of expiration. Where applicable, the records contain contract number(s), contract expiration date(s), and the Military Critical Technical Data Agreement (MCTDA) Certification Number. Only DoD employees requesting registration are required to submit their SSNs via encryption to DMDC (Defense Manpower Data Center) to confirm their status as DoD employees. The SSN is not viewed, stored, nor accessible by DTIC.

Authority for maintenance of the system:

5 U.S.C. 301, Departmental Regulation; E.O. 12958, Classified National Security Information; DOD 5200.1-R, Information Security Program; Defense Information Systems Agency Instruction 240-110-8, Information Security Program; and E.O. 9397 (SSN).

Purpose(s):

To collect, validate eligibility, and maintain an official registry file that identifies individuals and organizations who apply for, and are granted, access privileges to DTIC products, services and electronic information systems.

Routine uses of records maintained in the system, including categories of users and the purposes of such uses:

In addition to those disclosures generally permitted under 5 U.S.C. 552a(b) of the Privacy Act, these records or information contained therein may specifically be disclosed outside the DoD as a routine use pursuant to 552a(b)(3) as follows:

The DoD “Blanket Routine Uses” set forth at the beginning of OSD's compilation of systems of records notices apply to this system.

Policies and practices for storing, retrieving, accessing, retaining, and disposing of records in the system:

Storage:

Electronic storage media.

Retrievability:

Individual name, e-mail address, and security clearance level.

Safeguards:

Records are maintained in secure, limited access, or monitored areas. Database is monitored and access is password protected. Physical entry by unauthorized persons is restricted through the use of locks, guards, passwords, or other administrative procedures. Archived data is stored on discs, or magnetic tapes, which are kept in a locked or controlled access area. Access to personal information is limited to those individuals who require the records to perform their official assigned duties.

Retention and disposal:

Electronic records are to be deleted when/if DTIC determines they are no longer needed for administrative, audit, legal or operational purposes. Approved disposal methods for electronic records and media include overwriting, degaussing, erasing, disintegration, pulverization, burning, melting, incineration, shredding or sanding.

System manager(s) and address:

The Chief, Marketing and Registration Division, DTIC-BC, 8725 John J. Kingman Road, Suite 0944, Fort Belvoir, VA 22060-6218.

Notification procedure:

Individuals seeking to determine whether this system of records contains information about themselves may address their inquiries to Defense Technical Information Center; ATTN: DTIC-BC (Registration Team), 8725 John J. Kingman Road, Suite 0944, Fort Belvoir, VA 22060-6218.

Requests should contain the individual's full name, Social Security Number, telephone number, street address, and e-mail address.

Record access procedures:

Individuals seeking to access records about themselves contained in this system of records should address written inquires to the Privacy Act Officer, Defense Technical Information Center, 8725 John J. Kingman Road, Suite 0944, Fort Belvoir, VA 22060-6218.

Requests should contain the individual's full name, Social Security Number, telephone number, street address, and e-mail address.

Contesting record procedures:

The OSD rules for accessing records, for contesting contents and appealing initial agency determinations are published in OSD Administrative Instruction 81; 32 CFR part 311; or may be obtained from the system manager.

Record source categories:

Information is obtained from security personnel and individuals applying for access to DTIC controlled access documents, information systems, and/or services.

Exemptions claimed for the system:

None.

[FR Doc. E8-26749 Filed 11-10-08; 8:45 am]

BILLING CODE 5001-06-P